DEPARTMENT OF COMMERCE

Bureau of Industry and Security

15 CFR Part 744

[Docket No. 240722-0202]

RIN 0694-AI06

Standards-Related Activities and the Export Administration Regulations; Corrections

AGENCY: Bureau of Industry and Security, Commerce.

ACTION: Correcting amendments.

SUMMARY: On July 18, 2024, the Bureau of Industry and Security published an interim final rule that revised the Export Administration Regulations (EAR). That rule inadvertently revised language related to recent changes to the Entity List. This document corrects the inadvertent revisions introduced in the July 18, 2024, rule.

DATES: Effective July 25, 2024.

FOR FURTHER INFORMATION CONTACT: Nancy Kook, Regulatory Policy Division, Bureau of Industry and Security, Department of Commerce. Phone: (202) 482-2440; Email: Nancy.Kook@bis.doc.gov.

SUPPLEMENTARY INFORMATION: On July 18, 2024, BIS published in the Federal Register the interim final rule (IFR), “Standards-Related Activities and the Export Administration Regulations” (89 FR 58265) that revised parts 734, 744 and 772 of the EAR. The revisions in the July 18, 2024, rule inadvertently reverted changes to part 744 that were amended in a final rule that BIS published on June 18, 2024 (89 FR 51644). This document corrects the inadvertent revisions introduced in the Federal Register on July 18, 2024, specifically to §§ 744.11, 744.16, and supplement no. 4 to part 744, to reintroduce language that was added in the June 18, 2024, rule that reflected the addition of paragraph (f) under § 744.16.

List of Subjects in 15 CFR Part 744

Exports, Reporting and recordkeeping requirements, Terrorism.

Accordingly, 15 CFR 744 is corrected by making the following correcting amendments:

PART 744—CONTROL POLICY: END-USER AND END-USE BASED

1. The authority citation for part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; E.O. 13224, 66 FR 49079, 3 CFR, 2001 Comp., p. 786; 3 CFR, 2022 Comp., p. 563; Notice of September 7, 2023, 88 FR 62439 (September 11, 2023); Notice of November 1, 2023, 88 FR 75475 (November 3, 2023).

2. Section 744.11 is amended by revising paragraph (a) introductory text to read as follows:

§ 744.11 License requirements that apply to entities acting contrary to the national security or foreign policy interests of the United States.

* * * * *

(a) License requirement, availability of license exceptions, and license application review policy. A license is required, to the extent specified on the Entity List, to export, reexport, or transfer (in-country) any item subject to the EAR when an entity that is listed on the Entity List, or any entity using an address identified on the Entity List as presenting a high risk of diversion to activities of concern, is a party to the transaction as described in § 748.5(c) through (f) of the EAR unless otherwise authorized or excluded in this section. License exceptions may not be used unless authorized in the Entity List entry for the entity that is party to the transaction or for an address that presents a high diversion risk that is used by a party to the transaction. Applications for licenses required by this section will be evaluated as stated in the relevant Entity List entry, in addition to any other applicable review policy stated elsewhere in the EAR.

* * * * *

3. Section 744.16 is amended by revising paragraph (a) to read as follows:

§ 744.16 Entity List.

* * * * *

(a) License requirements. In addition to the license requirements for items specified on the CCL, you may not, without a license from BIS, export, reexport, or transfer (in-country) any items included in the License Requirement column of an entry on the Entity List (supplement no. 4 to this part) when an entity associated with that entry or when any entity using an address of high diversion risk associated with that entry is a party to a transaction as described in § 748.5(c) through (f) of the EAR. The specific license requirement for each listed entity or address with high diversion risk is identified in the license requirement column on the Entity List in supplement no. 4 to this part.

* * * * *

4. Supplement no. 4 to part 744 is amended by revising the introductory text to read as follows:

Supplement No. 4 to Part 744—Entity List

This supplement lists certain entities or addresses subject to license requirements for specified items under this part 744 and part 746 of the EAR. License requirements for these entities include exports, reexports, and transfers (in-country) unless otherwise stated. A license is required, to the extent specified on the Entity List, to export, reexport, or transfer (in-country) any item subject to the EAR when an entity or a party to the transaction is operating at an address that is listed on the Entity List under an address entry is a party to the transaction as described in § 748.5(c) through (f) of the EAR. This list is revised and updated on a periodic basis in this supplement by adding new or amended notifications and deleting notifications no longer in effect.

* * * * *

Thea D. Rozman Kendler,
Assistant Secretary for Export Administration.

[FR Doc. 2024-16379 Filed 7-24-24; 8:45 am]

BILLING CODE 3510-33-P